ENVIRONMENTAL PROTECTION AGENCY

40 CFR Parts 52 and 61

[ND-001-0005a & 0007a; FRL-7419-1]

Clean Air Act Approval and Promulgation of Air Quality Implementation Plan Revision for North Dakota; Withdrawal of Direct Final Rule

AGENCY: Environmental Protection Agency (EPA).

ACTION: Withdrawal of direct final rule.

SUMMARY: EPA has received adverse comments on our October 7, 2002 direct final rule (see 67 FR 62395) to approve revisions to various air pollution control rules in the North Dakota State Implementation Plan (SIP), which were submitted by the Governor of North Dakota with a letter dated June 21, 2001. In the October 7, 2002 direct final rule (67 FR 62395), we stated that if we received adverse comments by November 6, 2002, the direct final rule would be withdrawn and would not take effect. EPA has received adverse comments from the Dakota Resource Council, submitted with a letter dated November 6, 2002. The comments are specific to the North Dakota air pollution control rule regarding prevention of significant deterioration. Therefore, the sections of the direct final rule regarding the revisions to the North Dakota air pollution control rules are being withdrawn and all public comments received will be addressed in a subsequent final rule based on EPA's October 7, 2002 proposed rule (see 67 FR 62432). EPA will not institute a second comment period on this action.

Please note that this withdrawal does not withdraw or impact the sections of EPA's October 7, 2002 direct final rule regarding notice of delegation of authority for New Source Performance Standards nor the change to the approved plan to remove the State's part 61 National Emission Standards for Hazardous Air Pollutants regulations from the federally-approved SIP (and related update to the part 61 table).

EFFECTIVE DATE: The additions of 40 CFR 52.1820(c)(32) is withdrawn as of December 6, 2002.

FOR FURTHER INFORMATION CONTACT: Amy Platt, Environmental Protection Agency, Region VIII, (303) 312-6449.

SUPPLEMENTARY INFORMATION: See the information provided in the direct final rule located in the Rules and Regulations section of the October 7, 2002 Federal Register (67 FR 62432).

List of Subjects

40 CFR Part 52

Environmental protection, Air pollution control, Incorporation by reference, Intergovernmental relations, Particulate matter, Reporting and recordkeeping requirements.

40 CFR Part 61

Environmental protection, Air pollution control, Arsenic, Asbestos, Benzene, Beryllium, Hazardous substances, Mercury, and Vinyl chloride.

Accordingly, the addition of 40 CFR 52.1820(c)(32) is withdrawn as of December 6, 2002.

Dated: November 26, 2002.
Robert E. Roberts,
Regional Administrator, Region VIII.

[FR Doc. 02-30941 Filed 12-5-02; 8:45 am]

BILLING CODE 6560-50-P